SMALL BUSINESS ADMINISTRATION

[License No. 01/71-0360]

Zero Stage Capital V, LP; Notice Seeking Exemption Under Section 312 of the Small Business Investment Act, Conflicts of Interest

Notice is hereby given that Zero Stage Capital V, L.P., 265 Franklin Street, 18th Floor, Boston, MA 02110, a Federal Licensee under the Small Business Investment Act of 1958, as amended (“the Act”), in connection with the Licensee's General Partner's continued role in managing the Licensee's assets after the sale of such assets to a buyer group, has sought an exemption under section 312 of the Act and section 107.730(a), self-deal which constitutes Conflicts of Interest of the Small Business Administration (“SBA”) rules. Zero Stage Capital Associates V, LP, the General partner of the Licensee, proposes to continue managing the Licensee's assets, which will be acquired by an institutional buyer (“Buyer”).

The management arrangement is brought within the purview of Sec. 107.730(a) of the Regulations because the Licensee's managers will benefit from their continued management role after the sale of the portfolio to the Buyer. Therefore, this management arrangement constitutes a conflict of interest which requires SBA's prior approval.

Notice is hereby given that any interested person may submit written comments on the transaction, within 15 days of the date of this publication, to the Associate Administrator for Investment, U.S. Small Business Administration, 409 Third Street, SW., Washington, DC 20416.

Harry Haskins,
Acting Associate Administrator For Investment.

[FR Doc. 07-4306 Filed 8-31-07; 8:45 am]

BILLING CODE 8025-01-M